DEPARTMENT OF COMMERCE

International Trade Administration

[A-570-086, A-549-839]

Steel Propane Cylinders From the People's Republic of China and Thailand: Final Results of the Expedited Sunset Reviews of the Antidumping Duty Orders

AGENCY: Enforcement and Compliance, International Trade Administration, Department of Commerce.

SUMMARY: The U.S. Department of Commerce (Commerce) finds that revocation of the antidumping duty (AD) orders on steel propane cylinders from the People's Republic of China (China) and Thailand would be likely to lead to continuation or recurrence of dumping at the levels indicated in the “Final Results of the Sunset Review” section of this notice.

DATES: Applicable November 8, 2024.

FOR FURTHER INFORMATION CONTACT: Patrick Barton, AD/CVD Operations, Office III, Enforcement and Compliance, International Trade Administration, U.S. Department of Commerce, 1401 Constitution Avenue NW, Washington, DC 20230; telephone: (202) 482-0012.

SUPPLEMENTARY INFORMATION:

Background

On August 15, 2019, Commerce published the AD orders on steel propane cylinders from China and Thailand.¹ On July 1, 2024, Commerce published the Initiation Notice of the first sunset reviews of the Orders, pursuant to section 751(c) of the Tariff Act of 1930, as amended (the Act).² In accordance with 19 CFR 351.218(d)(1)(i) and (ii), Commerce received a notice of intent to participate from Worthington Enterprises (the domestic interested party) within 15 days after the publication of the Initiation Notice.³ The domestic interested party claimed interested party status under section 771(9)(C) of the Act as a producer of a domestic like product in the United States.⁴

¹ See Steel Propane Cylinders from the People's Republic of China and Thailand: Amended Final Determination of Sales at Less Than Fair Value and Antidumping Duty Orders, 84 FR 41703 (August 15, 2019) (Orders).

² See Initiation of Five-Year (Sunset) Reviews, 89 FR 54435 (July 1, 2024) (Initiation Notice).

³ See Domestic Interested Party's Letters, “Steel Propane Cylinders from the People's Republic of China—Domestic Industry's Notice of Intent to Participate,” dated July 16, 2024; and “Steel Propane Cylinders from the Thailand—Domestic Industry's Notice of Intent to Participate,” dated July 16, 2024.

⁴ Id.

Commerce received an adequate substantive response from the domestic interested party within the 30-day deadline specified in 19 CFR 351.218(d)(3)(i).⁵ Commerce did not receive substantive responses from any other interested parties. On August 21, 2024, Commerce notified the U.S. International Trade Commission that it did not receive a complete substantive response from other interested parties.⁶ As a result, in accordance with section 751(c)(3)(B) of the Act and 19 CFR 351.218(e)(1)(ii)(C)(2), Commerce conducted expedited (i.e., 120-day) sunset reviews of the Orders. On July 22, 2024, Commerce tolled certain deadlines in these administrative proceedings by seven days.⁷ The deadline for the final results is now November 5, 2024.

⁵ See Domestic Interested Party's Letters, “Steel Propane Cylinders from the People's Republic of China—Domestic Industry's Substantive Response,” dated July 30, 2024; and “Steel Propane Cylinders from Thailand—Domestic Industry's Substantive Response,” dated July 30, 2024.

⁶ See Commerce's Letter, “Sunset Reviews for July 2024,” dated August 21, 2024.

⁷ See Memorandum, “Tolling of Deadlines for Antidumping and Countervailing Duty Proceedings,” dated July 22, 2024

Scope of the Orders

The merchandise covered by the Orders is steel propane cylinders. For a full description of the scope of the Orders, see the Issues and Decision Memorandum.⁸

⁸ See Memorandum, “Issues and Decision Memorandum for the Final Results of the Expedited Sunset Reviews of the Antidumping Duty Orders on Steel Propane Cylinders from the People's Republic of China and Thailand,” dated concurrently with, and hereby adopted by, this notice (Issues and Decision Memorandum).

Analysis of Comments Received

All issues raised in these sunset reviews are addressed in the Issues and Decision Memorandum, including the likelihood of continuation or recurrence of dumping and the magnitude of the margins of dumping likely to prevail if the Orders were revoked. A list of topics discussed in the Issues and Decision Memorandum is included as an appendix to this notice. The Issues and Decision Memorandum is a public document and is on file electronically via Enforcement and Compliance's Antidumping and Countervailing Duty Centralized Electronic Service System (ACCESS), which is available to registered users at https://access.trade.gov. In addition, a complete version of the Issues and Decision Memorandum can be accessed directly at https://access.trade.gov/public/FRNoticesListLayout.aspx.

Final Results of Sunset Reviews

Pursuant to sections 751(c)(1) and 752(c)(1) and (3) of the Act, we determine that revocation of the Orders would be likely to lead to continuation or recurrence of dumping and that the magnitude of the margins likely to prevail would be up to 108.60 percent for China and 10.77 percent for Thailand.⁹

⁹ See Orders, 84 FR at 41704.

Administrative Protective Order

This notice serves as the only reminder to parties subject to an administrative protective order (APO) of their responsibility concerning the disposition of proprietary information disclosed under APO in accordance with 19 CFR 351.305(a). Timely written notification of the return or destruction of APO materials or conversion to judicial protective order is hereby requested. Failure to comply with the regulations and the terms of an APO is a violation which is subject to sanction.

Notification to Interested Parties

Commerce is issuing and publishing these final results and notice in accordance with sections 751(c), 752(c), and 777(i)(1) of the Act, and 19 CFR 351.221(c)(5)(ii).

Dated: November 4, 2024.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2024-26026 Filed 11-7-24; 8:45 am]

BILLING CODE 3510-DS-P